FEDERAL COMMUNICATIONS COMMISSION

47 CFR Part 73

[DA 02-3484, MB Docket No. 02-20, RM-10368]

Digital Television Broadcast Service; Traverse City, MI

AGENCY: Federal Communications Commission.

ACTION: Final rule.

SUMMARY: The Commission, at the request of Central Michigan University, allots DTV channel *23 at Traverse City, Michigan. See 67 FR 6905, February 14, 2002. DTV channel *23 can be allotted to Traverse City in compliance with the geographic spacing criteria of Section 73.623(d) and the principle community coverage requirements of Section 73.625(a) at coordinates (45-10-40 N. and 85-05-57 W). Due to a short-spacing conflict, the Canadian government has concurred with the allotment of DTV channel *23 as a specially negotiated allotment limited to l kW ERP and 390 meter HAAT or the equivalent in order to avoid prohibited overlap in the direction of DTV channel 23B at Sault Ste. Marie, Ontario, Canada. With this action, this proceeding is terminated.

DATES: Effective February 3, 2003.

FOR FURTHER INFORMATION CONTACT: Pam Blumenthal, Media Bureau, (202) 418-1600.

SUPPLEMENTARY INFORMATION: This is a synopsis of the Commission's Report and Order, MB Docket No. 02-20, adopted December 17, 2002, and released December 20, 2002. The full text of this document is available for public inspection and copying during regular business hours in the FCC Reference Information Center, Portals II, 445 12th Street, SW., Room CY-A257, Washington, DC. This document may also be purchased from the Commission's duplicating contractor, Qualex International, Portals II, 445 12th Street, SW., CY-B402, Washington, DC 20554, telephone 202-863-2893, facsimile 202-863-2898, or via e-mail qualexint@aol.com.

List of Subjects in 47 CFR Part 73

Digital television broadcasting, Television.

Part 73 of Title 47 of the Code of Federal Regulations is amended as follows:

PART 73—[AMENDED]

1. The authority citation for Part 73 continues to read as follows:

Authority: 47 U.S.C. 154, 303, 334 and 336.

§ 73.622 [Amended]

2. Section 73.622(b), the Table of Digital Television Allotments under Michigan, is amended by adding DTV channel *23 at Traverse City.

Federal Communications Commission.
Barbara A. Kreisman,
Chief, Video Division, Media Bureau.

[FR Doc. 03-163 Filed 1-3-03; 8:45 am]

BILLING CODE 6712-01-P